DEPARTMENT OF STATE

[Public Notice 7101]

In the Matter of the Designation of Harakat-ul Jihad Islami, Also Known as HUJI, Also Known as Movement of Islamic Holy War, Also Known as Harkat-ul-Jihad-al Islami, Also Known as Harkat-al-Jihad-ul Islami, Also Known as Harkat-ul-Jehad-al-Islami, Also Known as Harakat ul Jihad-e-Islami, Also Known as Harakat-ul Jihad Islami, as a Foreign Terrorist Organization Pursuant to Section 219 of the Immigration and Nationality Act, as Amended

Based upon a review of the Administrative Record assembled in this matter and in consultation with the Attorney General and the Secretary of the Treasury, I conclude that there is a sufficient factual basis to find that the relevant circumstances described in section 219 of the Immigration and Nationality Act, as amended (hereinafter “INA”) (8 U.S.C. 1189), exist with respect to Harakat-ul Jihad Islami, also known as HUJI, also known as Movement of Islamic Holy War, also known as Harkat-ul-Jihad-al Islami, also known as Harkat-al-Jihad-ul Islami, also known as Harkat-ul-Jehad-al-Islami, also known as Harakat ul Jihad-e-Islami, also known as Harakat-ul Jihad Islami.

Therefore, I hereby designate the aforementioned organization and its aliases as a Foreign Terrorist Organization pursuant to section 219 of the INA.

This determination shall be published in the Federal Register.

Dated: May 18, 2010.
Hillary Rodham Clinton,
Secretary of State.

[FR Doc. 2010-19446 Filed 8-5-10; 8:45 am]

BILLING CODE 4710-10-P